NATIONAL TRANSPORTATION SAFETY BOARD

Sunshine Act Meetings

Federal Register CITATION OF PREVIOUS ANNOUNCEMENT: 87 FR 24593 (April 26, 2022).

PREVIOUSLY ANNOUNCED TIME AND DATE OF THE MEETING: 9:30 a.m., Tuesday, May 10, 2022.

CHANGES IN THE MEETING: Any press and public attending in person must comply with the COVID-19 guidelines and may enter the NTSB Conference Center one hour prior to the meeting for set up and seating.

For those attending the meeting in person, COVID-19 mitigation measures, which are based on CDC COVID-19 Community Levels in the Washington, DC metro area, will be announced via media advisory and posted on the Board Meeting web page the Friday before the meeting. Measures may include masking and social distancing. See the Board meeting web page at www.ntsb.gov.

CONTACT PERSON FOR MORE INFORMATION: Candi Bing at (202) 314-6403 or by email at bingc@ntsb.gov.

Media Information Contact: Eric Weiss email at eric.weiss@ntsb.gov or at (202) 314-6100.

Individuals requesting specific accommodations should contact Rochelle McCallister at (202) 314-6305 or by email at Rochelle.McCallister@ntsb.gov by Wednesday, May 4, 2022.

Additional Information: The public is invited to attend the Safety Board's meeting live by webcast at the Web address http://ntsb.windrosemedia.com. Further information about attending in person will be posted on www.ntsb.gov and NTSB social media sites closer to the event date.

Schedule updates, including weather-related cancellations, are also available at www.ntsb.gov.

The National Transportation Safety Board is holding this meeting under the Government in the Sunshine Act, 5 U.S.C. 552(b).

Dated: Friday, April 29, 2022.
LaSean McCray,
Alternate Federal Register Liaison Officer.

[FR Doc. 2022-09534 Filed 4-29-22; 11:15 am]

BILLING CODE 7533-01-P